DEPARTMENT OF EDUCATION

National Assessment Governing Board; Meeting

AGENCY: Department of Education, National Assessment Governing Board.

ACTION: Notice of open meeting and partially closed meetings.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (i.e., interpreting services, assistive listening devices, materials in alternative format) should notify Munira Mwalimu at 202-357-6938 or at Munira.Mwalimu@ed.gov no later than November 10, 2008. We will attempt to meet requests after this date, but cannot guarantee availability of the requested accommodation. The meeting site is accessible to individuals with disabilities.

DATES: November 20-22, 2008.

Times

November 20

Committee Meetings:

Ad Hoc Committee on NAEP Testing and Reporting on Students with Disabilities and English Language Learners: Open Session—2 p.m. to 4 p.m.

Executive Committee: Open Session—4:30 p.m. to 5 p.m.; Closed Session—5 p.m. to 6 p.m.

November 21

Full Board: Open Session—8:30 a.m. to 9:45 a.m.; Closed Session—12:30 p.m. to 1:30 p.m.; Open Session—1:30 p.m. to 4:30 p.m.

Committee Meetings:

Assessment Development Committee: Open Session—9:45 a.m. to 11:45 a.m.; Closed Session—11:45 a.m. to 12:15 p.m.

Committee on Standards, Design and Methodology: Open Session—9:45 a.m. to 11:30 a.m.; Closed Session 11:30 a.m.—12:15 p.m.

Reporting and Dissemination Committee: Open Session—9:45 a.m. to 12:15 p.m.

November 22

Nominations Committee: Closed Session—7:45 a.m. to 8:45 a.m.

Full Board: Open Session—9 a.m. to 12 p.m.

Location: The Westin Arlington Gateway, 801 North Glebe Road, Arlington, VA 20024.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment specifications and frameworks, developing appropriate student achievement levels for each grade and subject tested, developing standards and procedures for interstate and national comparisons, developing guidelines for reporting and disseminating results, and releasing initial NAEP results to the public.

On November 20, the Ad Hoc Committee on NAEP Testing and Reporting on Students with Disabilities and English Language Learners will meet in open session from 2 p.m. to 4 p.m. Thereafter, the Executive Committee will meet in open session from 4:30 p.m. to 5 p.m. and in closed session from 5 p.m. to 6 p.m.

During the closed session the Executive Committee will receive a briefing from the National Center for Education Statistics (NCES) on options for NAEP contracts covering the 2008-2012 assessment years, based on funding for Fiscal Year 2009-2010. The discussion of contract options and costs will address the implications for congressionally mandated goals and adherence to Board policies on NAEP assessments. This part of the meeting must be conducted in closed session because public discussion of this information would disclose independent government cost estimates and contracting options, adversely impacting the confidentiality of the contracting process. Public disclosure of information discussed would significantly impede implementation of the NAEP contracts, and is therefore protected by exemption 9(B) of section 552b(c) of Title 5 U.S.C.

The second portion of the closed session of the Executive Committee is for discussion of personnel matters. These discussions pertain solely to internal personnel rules and practices of an agency and will disclose information of a personal nature where disclosure would constitute an unwarranted invasion of personal privacy. As such, the discussions are protected by exemptions 2 and 6 of section 552b(c) of Title 5 U.S.C.

On November 21, the full Board will meet in open session from 8:30 a.m. to 9 a.m. The Board will approve the agenda and the August 2008 Board minutes. The Secretary of Education Margaret Spellings will address the Governing Board and administer the oath of office to new and reappointed members. Thereafter, the Governing Board will receive a report from the Interim Executive Director of the Governing Board, and hear an update on the work of the National Center for Education Statistics (NCES).

On November 21, the Board's standing committees—the Assessment Development Committee, the Committee on Standards, Design and Methodology, and the Reporting and Dissemination Committee will meet from 9:45 a.m. to 12:15 p.m.

The Assessment Development Committee will meet in open session on November 21, 2008 from 9:45 a.m. to 11:45 a.m. From 11:45 a.m. to 12:15 p.m. the Assessment Development Committee will meet in closed session to review secure accessible booklet items at grades 4 and 8 for the NAEP 2009 reading and mathematics assessments. The meeting must be conducted in closed session as disclosure of test items would significantly impede implementation of the NAEP program, and is therefore protected by exemption 9(B) of section 552b(c) of Title 5 U.S.C.

On Friday, November 22, the Committee on Standards, Design and Methodology will meet in open session from 9:45 a.m. to 11:30 a.m. and in closed session from 11:30 a.m. to 12:15 p.m. During the closed session, the Committee will review results from the final trend analysis for the 2008 NAEP reading field trial data at grades 4 and 8. The results are sensitive and confidential and will be utilized to make a decision on development of work statements for the 2009 achievement level setting contracts in reading and mathematics. The meeting must therefore be conducted in closed session in order to allow the Committee to receive and discuss confidential acquisition planning and not provide an undue advantage to potential bidders which would significantly impede implementation of the NAEP program, and is therefore protected by exemption 9(B) of section 552b(c) of Title 5 U.S.C.

The Reporting and Dissemination Committee will meet in open session on November 21 from 9:45 a.m.—12:15 p.m.

On November 21 from 12:30 p.m. to 1:30 p.m. the full Board will meet in closed session to receive a briefing on the NAEP Achievement Gaps Report from the Associate Commissioner of NCES. The Governing Board will be provided with embargoed data on the report that cannot be discussed in an open meeting prior to their official release. The meeting must therefore be conducted in closed session as premature disclosure of data would significantly impede implementation of the NAEP program, and is therefore protected by exemption 9(B) of section 552b(c) of Title 5 U.S.C.

From 1:30 p.m. to 2:30 p.m., the Board will receive the final report from the Chair of the Board's 12th Grade Technical Panel on Preparedness Research. From 2:45 p.m. to 4 p.m., the Board will hear a presentation on Common Core Standards and International Benchmarking. This session will be followed by an ethics briefing for members of the Governing Board. The November 21 session of the Board meeting is scheduled to adjourn at 4:30 p.m.

On November 22, the Nominations Committee will meet in closed session from 7:45 a.m. to 8:45 a.m. to review candidate applications for vacant Board positions for terms beginning in October 2009. These discussions pertain solely to internal personnel rules and practices of an agency and will disclose information of a personal nature where disclosure would constitute an unwarranted invasion of personal privacy. As such, the discussions are protected by exemptions 2 and 6 of section 552b(c) of Title 5 U.S.C.

The full Board will meet in open session on November 22 from 9 a.m. to 10 a.m. to hear a presentation on “Inside NAEP: Plausible Values Methodology.” From 10:15 a.m. to 12 p.m., the Board will receive and take action on Committee reports. The November 22, 2008 session of the Board meeting is scheduled to adjourn at 12 p.m.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. Eastern Standard Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.gpoaccess.gov/nara/index.html.

Dated: October 27, 2008.
Mary Crovo,
Interim Executive Director, National Assessment Governing Board, U.S. Department of Education.

[FR Doc. E8-25912 Filed 10-29-08; 8:45 am]

BILLING CODE 4000-01-P